DEPARTMENT OF COMMERCE

National Oceanic and Atmospheric Administration

50 CFR Part 648

[Docket No. 240514-0138; RTID 0648-XE252]

Fisheries of the Northeastern United States; Atlantic Spiny Dogfish Fishery; Extension of 2024 Specifications Emergency Measures

AGENCY: National Marine Fisheries Service (NMFS), National Oceanic and Atmospheric Administration (NOAA), Commerce.

ACTION: Temporary rule; emergency action extended.

SUMMARY: This emergency action extends the 2024 emergency action specifications for the spiny dogfish fishery through the remainder of the 2024 fishing year and implements an accountability measure consistent with the regulations implementing the Spiny Dogfish Fishery Management Plan. This action is necessary to maintain allowable harvest levels for the spiny dogfish fishery to prevent overfishing while minimizing adverse economic impacts on fishing communities, using the best scientific information available.

DATES: Effective November 18, 2024, through April 30, 2025.

ADDRESSES: The Mid-Atlantic Fishery Management Council prepared an environmental assessment (EA) for these specifications that describes the action, other considered alternatives, and analyses of the impacts of all alternatives. Copies of the specifications document, including the EA, are available on request from Dr. Christopher M. Moore, Executive Director, Mid-Atlantic Fishery Management Council, Suite 201, 800 North State Street, Dover, DE 19901. These documents are also accessible via the internet at https://www.mafmc.org/action-archive.

FOR FURTHER INFORMATION CONTACT: Laura Deighan, Fishery Policy Analyst, (978) 281-9184, laura.deighan@noaa.gov.

SUPPLEMENTARY INFORMATION:

Background

The implementing regulations for the Atlantic Spiny Dogfish Fishery Management Plan (FMP) are found at 50 CFR part 648 subpart L, and require the specification of regulatory harvest limits, including an acceptable biological catch (ABC), annual catch limit (ACL), annual catch target (ACT), total allowable landings (TAL), and a coastwide commercial quota, with each fishing year running from May 1 through April 30. Under the authority of section 305(c) of the Magnuson-Stevens Fishery Conservation and Management Act (Magnuson-Stevens Act), NMFS issued a temporary emergency rule to implement spiny dogfish specifications for the first 6 months of the 2024 fishing year on May 22, 2024 (89 FR 44924), and took public comment on the emergency rule through June 21, 2024. The Federal Register notification on the emergency rule (89 FR 44926) indicated that “[a]fter considering public comments on this rule, NMFS may extend the interim measures for one additional period of not more than 186 days to maintain these measures for the remainder of the 2024 fishing year.” The emergency rule set the ABC equal to the overfishing limit (OFL) of 7,818 mt (17.24 million lb), used the Monitoring Committee's recommended model-based values for discards, and accounted for expected recreational landings, resulting in a commercial quota of 5,140 mt (11.33 million lb).

The Mid-Atlantic and New England Fishery Management Councils (Councils) jointly manage the Atlantic Spiny Dogfish FMP, with the Mid-Atlantic Council acting as the administrative lead. NMFS was unable to approve the Councils' recommended 2024 specifications because they relied on a discard estimate that violated National Standard 2, which requires management measures to be based on the best available science.

Given significant concerns raised by the fishing industry about the risk to the associated fishing communities if the commercial quota were substantially reduced, NMFS took emergency action to set the 2024 spiny dogfish specifications at levels higher than the Scientific and Statistical Committee (SSC) and Monitoring Committee recommendation for 2024. NMFS set the 2024 specifications with the ABC equal to the OFL, resulting in no more than a 50-percent chance of overfishing, consistent with National Standard 1. These specifications resulted in a higher commercial quota when using the model-based discard estimate, which is considered the best scientific information available. The emergency rule responded to concerns under National Standard 8 regarding the ability of the dogfish industry, and the communities that depend upon it, to continue to participate in the fishery while remaining consistent with the provisions of National Standard 1, that we prevent overfishing, and National Standard 2, that we base management measures on the best scientific information available. The Federal Register notification for the original emergency more fully describes the rationale for this action.

The 2023 ACL was 7,751 mt (17.09 million lb), and data on the dogfish fishery's performance in fishing year 2023 became available after the publication of the initial emergency rule. Final catch information indicate that total dead catch in fishing year 2023, including Federal commercial, state-only commercial, and recreational landings and estimated dead discards, was 8,243 mt (18.17 million lb). This represents a fishing year 2023 ACL overage of 491 mt (1.08 million lb). The spiny dogfish regulations at 50 CFR 648.233(c) require a deduction of the exact amount of the ACL overage, by weight, from a subsequent single-fishing-year ACL, as soon as possible. This action extends the emergency specifications through the end of the 2024 fishing year and reduces the remaining ACL and commercial quota to account for the 2023 ACL overage, as required by the regulations. We could not have included this adjustment in the initial emergency rule because complete data on fishing year 2023 were not yet available when that rule was promulgated.

The emergency measures will expire on November 18, 2024, under the Magnuson-Stevens Act's initial 180-day limit on the duration of an emergency action. The Magnuson-Stevens Act allows an extension of emergency actions for up to 186 days, provided that the public had an opportunity to comment on the emergency action and, for Council-recommended actions, the Council is actively preparing measures to address the emergency. We will consider the Councils' recommended specifications for 2025 and 2026 in subsequent rulemakings. This emergency action is intended to provide a 1-year bridge, with a slightly higher risk of overfishing (i.e., 50 percent, versus the Council-recommended 46 percent) on a stock above its biomass target, to mitigate the potential long-term adverse economic and social impact should the fishery lose access to its sole remaining commercial processor.

Extending the emergency action prevents the spiny dogfish fishery from reverting to the 2023 specifications that would be in place through a rollover provision when the emergency action expires. The underlying emergency conditions have not changed. The 2023 specifications included a higher ABC and commercial quota, which are not consistent with the best available scientific information to prevent overfishing with at least a 50-percent probability. Reverting to the 2023 specifications would result in an increased risk of overfishing. Fishing vessel owners and operators have changed their fishing behavior in anticipation of the emergency action's continuation through the end of the fishing year. Therefore, we are extending the emergency measures through the end of the 2024 fishing year (April 30, 2025). For the same reasons noted in the May 22, 2024, emergency rule, NMFS has determined that extending the emergency action to maintain the 2024 specifications through the end of the fishing year meets the criteria for emergency action.

Application of Accountability Measure for 2023 Overage

This action will extend the 2024 specifications through the end of the fishing year on April 30, 2025, and will reduce the ACL and commercial quota to pay back an ACL overage in fishing year 2023. By operation of the spiny dogfish accountability measures, a payback for an overage must occur “as soon as possible from a subsequent single fishing year ACL.” (50 CFR 648.233(c)). The initial emergency rule set the 2024 ACL at 7,782 mt (17.16 million lb) and the commercial quota at 5,140 mt (11.33 million lb). When accounting for the 491 mt (1.08 million lb) overage in fishing year 2023, this results in an updated ACL of 7,291 mt (16.07 million lb) and a commercial quota of 4,649 mt (10.25 million lb) for fishing year 2024 (table 1).

Table 1—Updated Atlantic Spiny Dogfish Specifications for FY2024
| Adjusted specifications: lb | Adjusted specifications: mt | Initial specifications: lb | Initial specifications: mt
OFL | 17,235,719 | 7,818 | 17,235,719 | 7,818
ABC | 17,235,719 | 7,818 | 17,235,719 | 7,818
Canadian Landings | 79,366 | 36 | 79,366 | 36
Domestic ABC | 17,156,353 | 7,782 | 17,156,353 | 7,782
ACL Reduction (FY2023 Overage) | 1,082,487 | 491 |  |
ACL | 16,073,866 | 7,291 | 17,156,353 | 7,782
Management Uncertainty Buffer | 0 | 0 | 0 | 0
Amount of buffer | 0 | 0 | 0 | 0
ACT | 16,073,866 | 7,291 | 17,156,353 | 7,782
U.S. Discards * | 5,577,689 | 2,530 | 5,577,689 | 2,530
TAL | 10,496,177 | 4,761 | 11,578,664 | 5,252
U.S. Recreational Landings | 246,917 | 112 | 246,917 | 112
Commercial Quota | 10,249,260 | 4,649 | 11,331,747 | 5,140
* This table corrects a typographical error in the U.S. discards, which was published as 5,577,698 lb in the initial emergency rule.

Comments and Responses

The public comment period for the original emergency rule ended on June 21, 2024, and NMFS did not receive any comments from the public.

Classification

The Assistant Administrator for Fisheries, NOAA, has determined that this rule is necessary to respond to an emergency situation and is consistent with the national standards and other provisions of the Magnuson-Stevens Act and other applicable laws.

The Assistant Administrator for Fisheries, NOAA, finds good cause under the authority contained in 5 U.S.C. 553(b)(B) that it is contrary to the public interest and impracticable to provide prior notice and opportunity for the public to comment. As more fully explained above, the reasons justifying promulgation of this action on an emergency basis, coupled with the fact that the public has had the opportunity to comment on NMFS' emergency action that this is extending, make solicitation of public comment unnecessary, impractical, and contrary to the public interest. In the interest of receiving public input on this action, the EA analyzing the impacts of this action was made available to the public and the original emergency action solicited public comment.

This action is being taken pursuant to the emergency provision of the Magnuson-Stevens Act and is exempt from review by the Office of Management and Budget.

The analytical requirements of the Regulatory Flexibility Act (5 U.S.C. 601 et seq.) are inapplicable to this emergency rule extension because notice and opportunity for comment are not required pursuant to 5 U.S.C. 553 or any other law. Therefore, a regulatory flexibility analysis is not required, and none has been prepared.

Authority: 16 U.S.C. 1801 et seq.

Dated: September 20, 2024.
Samuel D. Rauch III,
Deputy Assistant Administrator for Regulatory Programs, National Marine Fisheries Service.

[FR Doc. 2024-22373 Filed 9-27-24; 8:45 am]

BILLING CODE 3510-22-P